DEPARTMENT OF THE INTERIOR

Fish and Wildlife Service

[FWS-R8-ES-2014-N225; 80221-1113-0000-C2]

Endangered and Threatened Wildlife and Plants; Draft Recovery Plan for Four Species of the Santa Rosa Plain

AGENCY: Fish and Wildlife Service, Interior.

ACTION: Notice of availability.

SUMMARY: We, the U.S. Fish and Wildlife Service, announce the availability of the Draft Recovery Plan for the Santa Rosa Plain: Blennosperma bakeri (Sonoma sunshine); Lasthenia burkei (Burke's goldfields); Limnanthes vinculans (Sebastopol meadowfoam); Sonoma County Distinct Population Segment of the California Tiger Salamander (Ambystoma californiense) for public review and comment. The draft recovery plan includes recovery objectives and criteria, and specific actions necessary to achieve removal of the species from the Federal Lists of Endangered and Threatened Wildlife and Plants.

DATES: We must receive any comments on the draft recovery plan on or before February 9, 2015.

ADDRESSES: You may obtain a copy of the recovery plan from our Web site at http://www.fws.gov/endangered/species/recovery-plans.html. Alternatively, you may contact the Sacramento Fish and Wildlife Office, U.S. Fish and Wildlife Service, 2800 Cottage Way, Suite W-2605, Sacramento, CA 95825 (telephone 916-414-6700).

FOR FURTHER INFORMATION CONTACT: Jennifer Norris, Field Supervisor, at the above street address by telephone (see ADDRESSES).

SUPPLEMENTARY INFORMATION: We announce the availability of the Draft Recovery Plan for the following four species of the Santa Rosa Plain for public review and comment:

• Blennosperma bakeri (Sonoma sunshine)

• Lasthenia burkei (Burke's goldfields)

• Limnanthes vinculans (Sebastopol meadowfoam)

• Sonoma County Distinct Population Segment of the California Tiger Salamander (Ambystoma californiense)

The draft recovery plan includes recovery objectives and criteria, and specific actions necessary to achieve removal of the species from the Federal Lists of Endangered and Threatened Wildlife and Plants.

Background

Recovery of endangered or threatened animals and plants to the point where they are again secure, self-sustaining members of their ecosystems is a primary goal of our endangered species program and the Endangered Species Act of 1973, as amended (Act; 16 U.S.C. 1531 et seq.). Recovery means improvement of the status of listed species to the point at which listing is no longer appropriate under the criteria specified in section 4(a)(1) of the Act. The Act requires the development of recovery plans for listed species, unless such a plan would not promote the conservation of a particular species.

We listed Blennosperma bakeri (Sonoma sunshine), Lasthenia burkei (Burke's goldfields), and Limnanthes vinculans (Sebastopol meadowfoam) as endangered on December 2, 1991 (56 FR 61173). The present ranges of these species are predominantly located on the Santa Rosa Plain, which is located in central Sonoma County, bordered on the south and west by the Laguna de Santa Rosa, on the east by the Coast Range foothills, and on the north by the Russian River. However, the geographic area covered by this recovery plan includes all known locations of the species, some of which are outside of the Plain. They are annual plants that exist only in seasonal wetlands.

We listed the Sonoma County California tiger salamander, which we identified as a distinct population segment (DPS), as endangered on March 19, 2003 (68 FR 13498). The species is endemic to the Santa Rosa Plain. The Sonoma County California tiger salamander requires seasonal wetlands for breeding, and the surrounding uplands (upland habitat) for dispersal, feeding, growth, maturation, and maintenance of the juvenile and adult population.

The loss, degradation, and fragmentation of seasonal wetlands due to development have led to population declines for all four species. While ongoing agricultural practices have disturbed seasonal wetlands, certain agricultural practices, such as irrigated or grazed pasture, have protected habitat from intensive development and are compatible with persistence of these listed species. However, conversion of pastures to vineyards is a current threat of high magnitude.

Recovery Plan Goals

The purpose of a recovery plan is to provide a framework for the recovery of species so that protection under the Act is no longer necessary. A recovery plan includes scientific information about the species and provides criteria that enable us to gauge whether downlisting or delisting the species is warranted. Furthermore, recovery plans help guide our recovery efforts by describing actions we consider necessary for each species' conservation and by estimating time and costs for implementing needed recovery measures.

The ultimate goal of this recovery plan is to recover Blennosperma bakeri (Sonoma sunshine), Lasthenia burkei (Burke's goldfields), Limnanthes vinculans (Sebastopol meadowfoam), and California Tiger Salamander Sonoma County Distinct Population Segment (Ambystoma californiense) so that they can be delisted. To meet the recovery goals, the following objectives have been identified:

1. Restore habitat conditions to sustain viable (meta) populations of species to support self-sufficiency in perpetuity.

2. Maintain the current geographic, elevational, and ecological distribution of each listed species.

3. Maintain the genetic structure and diversity of existing populations.

4. Protect and manage sufficient habitat to ensure that the listed entity is able to adapt to unforeseen or unknown threats, such as climate change.

5. Reintroduce individuals to successfully establish new populations in historically occupied areas.

6. Minimize the contribution of extant or potential threats.

7. Monitor species population trends across multiple years (and varied climatic conditions) to determine whether abundances are sustainable.

8. Manage occurrences on a case-by-case basis during consultation, with an emphasis on protections to identified core areas.

As Blennosperma bakeri (Sonoma sunshine), Lasthenia burkei (Burke's goldfields), Limnanthes vinculans (Sebastopol meadowfoam), and California Tiger Salamander Sonoma County Distinct Population Segment (Ambystoma californiense) meet reclassification and recovery criteria, we will review their status and consider them for removal from the Federal Lists of Endangered and Threatened Wildlife and Plants.

Request for Public Comments

We request written comments on the draft revised recovery plan described in this notice. All comments received by the date specified above will be considered in development of a final recovery plan for Blennosperma bakeri (Sonoma sunshine), Lasthenia burkei (Burke's goldfields), Limnanthes vinculans (Sebastopol meadowfoam), and California Tiger Salamander Sonoma County Distinct Population Segment (Ambystoma californiense). You may submit written comments and information by mail or in person to the Sacramento Fish and Wildlife Office (see ADDRESSES).

Public Availability of Comments

Before including your address, phone number, email address, or other personal identifying information in your comment, you should be aware that your entire comment—including your personal identifying information—may be made publicly available at any time. While you can ask us in your comment to withhold your personal identifying information from public review, we cannot guarantee that we will be able to do so.

Authority

We developed our recovery plan under the authority of section 4(f) of the Act, 16 U.S.C. 1533(f). We publish this notice under section 4(f) of the Endangered Species Act of 1973, as amended (16 U.S.C. 1531 et seq.).

Dated: December 5, 2014._
Paul B. McKim
Regional Director, Pacific Southwest Region.

[FR Doc. 2014-29123 Filed 12-10-14; 8:45 am]

BILLING CODE 4310-55-P